DEPARTMENT OF COMMERCE

Foreign-Trade Zones Board

[Order No. 1836]

Reorganization of Foreign-Trade Zone 100 under Alternative Site Framework; Dayton, OH

Pursuant to its authority under the Foreign-Trade Zones Act of June 18, 1934, as amended (19 U.S.C. 81a-81u), the Foreign-Trade Zones Board (the Board) adopts the following Order:

Whereas, the Board adopted the alternative site framework (ASF) (74 FR 1170, 01/12/09; correction 74 FR 3987, 01/22/09; 75 FR 71069-71070, 11/22/10) as an option for the establishment or reorganization of general-purpose zones;

Whereas, the Greater Dayton Foreign-Trade Zone, Inc., grantee of Foreign-Trade Zone 100, submitted an application to the Board (FTZ Docket 1-2012, filed 01/3/2012) for authority to reorganize under the ASF with a service area of Auglaize, Darke, Fayette, Greene, Mercer, Miami, Montgomery, Preble and Shelby Counties, Ohio, within and adjacent to the Dayton Customs and Border Protection port of entry, and FTZ 100's existing Site 1 would be categorized as a magnet site, existing Sites 2-5 would be removed, the acreage of Site 1 would be reduced, and FTZ 100's existing Site 6 would be categorized as a usage-driven site;

Whereas, notice inviting public comment was given in the Federal Register (77 FR 1053, 1/9/2012) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to reorganize FTZ 100 under the alternative site framework is approved, subject to the FTZ Act and the Board's regulations, including Section 400.13, to the Board's standard 2,000-acre activation limit for the overall general-purpose zone project, and to a three-year sunset provision for usage-driven sites that would terminate authority for Site 6 if no foreign-status merchandise is admitted for a bona fide customs purpose by June 30, 2015.

Signed at Washington, DC, this 18 day of June 2012.
Paul Piquado,
Assistant Secretary of Commerce for Import Administration, Alternate Chairman, Foreign-Trade Zones Board.
ATTEST:
Elizabeth Whiteman,
Acting Executive Secretary.

[FR Doc. 2012-15742 Filed 6-26-12; 8:45 am]

BILLING CODE 3510-DS-P